DEPARTMENT OF COMMERCE

National Oceanic and Atmospheric Administration

50 CFR Part 660

[Docket No. 171026999-8408-02]

RIN 0648-BH36

Fisheries Off West Coast States; Highly Migratory Fisheries; Amendment 4 to Fishery Management Plan for West Coast Highly Migratory Species Fisheries; Revisions to the Biennial Management Cycle

AGENCY: National Marine Fisheries Service (NMFS), National Oceanic and Atmospheric Administration (NOAA), Commerce.

ACTION: Final rule.

SUMMARY: Based on recommendations from the Pacific Fishery Mangement Council (Council), NMFS is issuing regulations under the Magnuson-Stevens Fishery Conservation and Management Act (MSA) to implement Amendment 4 to the Fishery Management Plan for U.S. West Coast Highly Migratory Species (HMS FMP). The intent of Amendment 4 is to bring descriptions of the management context for HMS fisheries up to date, to better describe the Council's role in the process of making stock status determinations for highly migratory species (HMS), including the Council's evaluations of the best scientific information available (BSIA), and to change the schedule of the Council's three-meeting biennial management cycle for HMS stocks. This rule updates and amends the descriptions of biennial management cycle activities in the regulations for the HMS FMP to allow the Council to shift the schedule of Council meetings for the consideration of HMS stock status updates and management recommendations in response to instances in which a stock or stocks is determined to be subject to overfishing, overfished, or both. The changes to the Council's biennial management cycle activities and the schedule are intended to better streamline international and domestic management processes for HMS. This rule is administrative in nature and is not expected to affect activities authorized under the FMP or harvest levels of HMS.

DATES: This rule is effective June 6, 2018.

ADDRESSES: Copies of the Amendment 4, the Regulatory Impact Review (RIR) and other supporting documents are available via the Federal eRulemaking Portal: http://www.regulations.gov, docket NOAA-NMFS-2017-0138, or contact Amber Rhodes, NMFS West Coast Region, 562-980-3231, Amber.Rhodes@noaa.gov or Heidi Taylor, NMFS West Coast Region, 562-980-4039, Heidi.Taylor@noaa.gov.

FOR FURTHER INFORMATION CONTACT: Amber Rhodes, NMFS, 562-980-3231, Amber.Rhodes@noaa.gov or Heidi Taylor, NMFS, 562-980-4039, Heidi.Taylor@noaa.gov.

SUPPLEMENTARY INFORMATION:

Background

In a January 23, 2018, Notice of Availability (83 FR 3108), NMFS announced that the Council submitted Amendment 4 to the Secretary of Commerce for approval, and requested comments on Amendment 4. The 60-day public comment period ended on March 26, 2018. NMFS approved Amendment 4 to the HMS FMP on April 24, 2018.

On February 27, 2018, NMFS published a proposed rule in the Federal Register (83 FR 8414) to implement Amendment 4 by revising regulations at 50 CFR 660.709 contingent upon approval of Amendment 4. The proposed rule contains additional background information on Amendment 4. The 45-day public comment period for the proposed rule closed on April 13, 2018.

Amendment 4 is intended to better align the Council's biennial management cycle for HMS with the timing of international stock assessments and stock status determinations for these species. The changes to the current biennial management cycle included in Amendment 4 and implemented by this rule would allow the Council to streamline domestic and international management activities, such as stock assessment and biological reference point reviews, and to better align schedules to meet statutory timelines in section 304(e) and (i) of the MSA (16 U.S.C. 1854(e) and (i)) for making recommendations for domestic regulations and international measures when stocks are determined to be overfished or subject to overfishing. Additionally, this rule would ensure that the meeting schedule is not codified in regulations, thus allowing the Council to make changes to the schedule for its meetings in the biennial management cycle, consistent with the HMS FMP, without needing to seek a change in the regulatory language. Allowing the Council to make this type of adjustment without seeking a regulatory change improves the efficiency with which future changes to the biennial management cycle can be implemented.

Content of Regulations

This rule amends 50 CFR 660.709 to remove a specific schedule for the Council's biennial management cycle (i.e., during June, September, and November Council meetings) from codified text and replace it with a reference to a biennial management cycle schedule specified in the FMP (i.e., during September, November, and March Council meetings under Amendment 4). Thus, future schedule changes to the Council's biennial management cycle will not require a rulemaking. The rule also provides the Council's Science and Statistical Committee greater discretion over whether to review, and make recommendations on, the estimates in the annual stock assessment and fishery evaluation report.

NMFS did not make any changes in this final rule to the regulatory text of the proposed rule.

Public Comments and Responses

A total of 13 comments were received in response to either the Notice of Availability for the Amendment or the proposed rule. All comments remarked solely on issues beyond the scope of the proposed rule and lacked any specific remarks on NMFS' decision to approve, disapprove, or partially approve the amendment. Because 10 of the comments contained inappropriate content, NMFS made only three of the comments available on the Federal eRulemaking Portal (see ADDRESSES).

Classification

The Administrator of the West Coast Region, NMFS, determined that Amendment 4 to the HMS FMP and this final rule are necessary for the conservation and management of U.S. West Coast HMS fisheries and are consistent with the MSA and other applicable laws.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

There are no new collection-of-information requirements associated with this action that are subject to the Paperwork Reduction Act; however, existing collection-of-information requirements associated with the HMS FMP still apply. These requirements have been approved by the Office of Management and Budget (OMB control numbers 0648-0204, 0648-0223, 0648-0361, 0648-0498). Notwithstanding any other provision of the law, no person is required to respond to, and no person shall be subject to penalty for failure to comply with, a collection-of-information subject to the requirements of the PRA, unless that collection-of-information displays a currently valid OMB control number.

List of Subjects in 50 CFR Part 660

Fisheries, Fishing, Reporting and recordkeeping requirements.

Dated: May 1, 2018.
Alan D. Risenhoover,
Acting Deputy Assistant Administrator for Regulatory Programs, National Marine Fisheries Service.

For the reasons set out in the preamble, 50 CFR part 660 is amended as follows:

PART 660—FISHERIES OFF WEST COAST STATES

Subpart K—Highly Migratory Fisheries

1. The authority citation for part 660, subpart K, continues to read as follows:

Authority: 16 U.S.C. 1801 et seq.

2. In § 660.709, remove paragraphs (a)(2) and (a)(3), redesignate paragraph (a)(4) as (a)(2), and revise paragraphs (a)(1) and (d) to read as follows:

§ 660.709 Annual specifications.

(a) * * *

(1) Each year, the HMSMT will deliver a stock assessment and fishery evaluation report to the Council for all HMS with any necessary recommendations for harvest guidelines, quotas or other management measures to protect HMS, including updated maximum sustainable yield (MSY) and optimum yield (OY) estimates based on the best available science. The Council's Scientific and Statistical Committee may review the estimates and make a recommendation on their suitability for management. As described in the fishery management plan, the Council will periodically review these recommendations and decide whether to adopt updated numerical estimates of MSY and OY, which are then submitted as recommendations for NMFS to review as part of the management measures review process.

* * * * *

(d) Irrespective of the normal review process, the Council may propose management action to protect HMS at any time. The Council may adopt a management cycle different from the one described in the fishery management plan provided that such change is made by a majority vote of the Council and a 6-month notice of the change is given.

[FR Doc. 2018-09584 Filed 5-4-18; 8:45 am]

BILLING CODE 3510-22-P